DEPARTMENT OF DEFENSE

48 CFR Parts 204, 215, 219, 225, and 252 and Appendix G to Chapter 2

Defense Federal Acquisition Regulation Supplement; Technical Amendments

AGENCY: Department of Defense (DoD).

ACTION: Final rule.

SUMMARY: DoD is making technical amendments to the Defense Federal Acquisition Regulation Supplement to update activity names and addresses, reference numbers, clause titles, and clause dates.

EFFECTIVE DATE: July 30, 2002.

FOR FURTHER INFORMATION CONTACT: Ms. Michele Peterson, Defense Acquisition Regulations Council, OUSD (AT&L) DP (DAR), IMD 3C132, 3062 Defense Pentagon, Washington, DC 20301-3062. Telephone (703) 602-0311; facsimile (703) 602-0350.

List of Subjects in 48 CFR Parts 204, 215, 219, 225, and 252

Government procurement.

Michele P. Peterson,
Executive Editor, Defense Acquisition Regulations Council.

Therefore, 48 CFR parts 204, 215, 219, 225, and 252 and Appendix G to Chapter 2 are amended as follows:

1. The authority citation for 48 CFR Parts 204, 215, 219, 225, and 252 and Appendix G to subchapter I continues to read as follows:

Authority: 41 U.S.C. 421 and 48 CFR Chapter 1.

PART 204—ADMINISTRATIVE MATTERS

2. Section 204.7202-1 is amended in paragraph (a) by revising the last sentence to read as follows:

204.7202-1 CAGE codes.

(a) * * * DoD 4000.25-5-M, Military Standard Contract Administration Procedures (MILSCAP), and Volume 7 of DoD 4100.39-M, Federal Logistics Information System (FLIS) Procedures Manual, prescribe use of CAGE codes.

* * * * *

PART 215—CONTRACTING BY NEGOTIATION

215.407-4 [Amended]

3. Section 215.407-4 is amended as follows:

a. In paragraph (b)(2), in the first and last sentences, by removing “5000.2R” and adding in its place “5000.2”; and

b. In paragraph (c)(2)(A) introductory text, in the second parenthetical, by removing “31.001” and adding in its place “2.101”.

215.407-5-70 [Amended]

4. Section 215.407-5-70 is amended in paragraph (a)(2) by removing “31.001” and adding in its place “2.101”.

PART 219—SMALL BUSINESS PROGRAMS

219.708 [Amended]

5. Section 219.708 is amended in paragraphs (b)(1)(A) and (B) by removing “FAR 52.219-9, Small, Small Disadvantaged and Women-Owned Small Business Subcontracting Plan” and adding in its place “FAR 52.219-9, Small Business Subcontracting Plan”.

PART 225—FOREIGN ACQUISITION

225.103 [Amended]

6. Section 225.103 is amended in paragraph (b)(iii)(C) by removing “Chief of the Technical Operations Division” and adding in its place “Director, Pharmaceuticals Group”.

PART 252—SOLICITATION PROVISIONS AND CONTRACT CLAUSES

252.212-7001 [Amended]

7. Section 252.212-7001 is amended as follows:

a. By revising the clause date to read “(JUL 2002)”; and

b. In paragraph (c), in entry “252.247-7023” by removing “(MAR 2000)” and adding in its place “(MAY 2002)”.

8. Appendix G to Chapter 2 is amended in Part 3 by removing entry “N68558” and adding, in alpha-numerical order, entries “N62558” and “N65886” to read as follows:

Appendix G—Activity Address Numbers

* * * * *

Part 3—Navy Activity Address Numbers

* * * * *

N62558, 3H Officer-in-Charge, Naval Regional Contracting Center, Detachment London, PSC 821, Box 45, FPO AE 09421-1300

* * * * *

N65886, (MAJ00019), GV Commanding Officer, Naval Air Depot, Naval Air Station, Contracts Management Office, Building 101, Wasp Street, Jacksonville, FL 32212-0016

* * * * *

9. Appendix G to Chapter 2 is amended in Part 5 by revising entry “F29650” to read as follows:

Part 5—Air Force Activity Address Numbers

* * * * *

F29650, R3 377 CONS, 2000 Wyoming Boulevard SE, Kirtland AFB, NM 87117-5606

* * * * *

10. Appendix G to Chapter 2 is amended by revising Parts 7 through 13 to read as follows:

Part 7—Defense Information Systems Agency Activity Address Numbers

DCA100, VC DITCO-NCR, ATTN: DTN, 701 South Courthouse Road, Arlington, VA 22204-2199 (ZD10)

DCA200, VP Defense Information Technology Contracting Organization, Contracting Directorate, ATTN: AQSS, 2300 East Drive, Scott AFB, IL 62225-5406 (ZD11)

DCA300, 1F DITCO-Pacific, ATTN: AQP, 1080 Vincennes Avenue, Suite 100, Pearl Harbor, HI 96860-4535 (ZD13)

DCA400, WK DITCO-Europe, ATTN: AQE, Unit 4235, Box 375, APO AE 09136-5375 (ZD14)

DCA500, KH DITCO-Alaska, ATTN: AQA, 10441 Kuter Avenue, Suite 209 Elmendorf AFB, AK 99506-2615 (ZD15)

Part 8—National Imagery and Mapping Agency Activity Address Numbers

NMA100, BQ National Imagery and Mapping Agency, Contracting Support for Information Services, ATTN: ACI/D-88, 4600 Sangamore Road, Bethesda, MD 20816-5003 (ZM10)

NMA201, Y2 National Imagery and Mapping Agency, Contracting Support for Acquisition Directorate, ATTN: ACA/N-43, 4600 Sangamore Road, Bethesda, MD 20816-5003 (ZM21)

MA301, V2 National Imagery and Mapping Agency, Contracting Support for Directorate of Operations, ATTN: ACME/D-5, 4600 Sangamore Road, Bethesda, MD 20816-5003 (ZM31)

NMA302, YQ National Imagery and Mapping Agency, Contracting Support for Directorate of Operations, ATTN: ACMW/L-13, 3200 South Second Street, St. Louis, MO 63118-3399 (ZM32)

NMA401, 8Y National Imagery and Mapping Agency, Washington Contracting Center, ATTN: ACW/D-6, 4600 Sangamore Road, Bethesda, MD 20816-5003 (ZM41)

NMA402, YZ National Imagery and Mapping Agency, St. Louis Contracting Center, ATTN: ACS/L-13, 3200 South Second Street, St. Louis, MO 63118-3399 (ZM42)

Part 9—Defense Threat Reduction Agency Activity Address Numbers

DTRA01, 8Z Defense Threat Reduction Agency (AL), DTRA Annex, 8725 John J. Kingman Road, MSC 6201, Fort Belvoir, VA 22060-6201 (ZT01)

DTRA02, 0N Defense Threat Reduction Agency, Albuquerque Support Office (ALTK), 1680 Texas Street SE, Kirtland AFB, NM 87117-5669 (ZT02)

Part 10—Miscellaneous Defense Activities Activity Address Numbers

MDA112, E0 T-ASA, Sacramento Contracting Office, 3230 Peacekeeper Way, Building 209, McClellan, CA 95652-2600 (ZP12)

MDA113, VE T-ASA, March Contracting Office, 1363 Z Street, Building 2730, March ARB, CA 92518-2017 (ZP13)

MDA220, BC Defense Finance and Accounting Service, Acquisition Services Directorate—Arlington, 1931 Jefferson Davis Highway, Room 905, Arlington, VA 22240-5291 (ZF22)

MDA230, SU Defense Finance and Accounting Service, Acquisition Services Directorate—Cleveland, 1240 East 9th Street, Cleveland, OH 44199-2055 (ZF23)

MDA240, 9R Defense Finance and Accounting Service, Acquisition Services Directorate—Columbus, 3990 East Broad Street, Building 21, Columbus, OH 43215-1152 (ZF24)

MDA250, SV Defense Finance and Accounting Service, Acquisition Services Directorate—Denver, 6760 East Irvington Place, Denver, CO 80279-8000 (ZF25)

MDA260, ST Defense Finance and Accounting Service, Acquisition Services Directorate—Indianapolis, 8899 East 56th Street, Building 1, Room 216, Indianapolis, IN 46249-0240 (ZF26)

MDA280, SY Defense Finance and Accounting Service, Acquisition Services Directorate—Kansas City, 1500 East 95th Street, Kansas City, MO 64197-0001 (ZF28)

MDA410, DR DoD Education Activity, ATTN: Procurement Division, 4040 North Fairfax Drive, 4th Floor, Arlington, VA 22203-1635 (ZK10)

MDA412, 9Y DoD Education Activity, European Procurement Office, CMR 443, Box 6000, APO AE 09096-9649 (ZK12)

MDA414, Y4 DoD Education Activity, Education Supplies Procurement Office, 101 Buford Road, Richmond, VA 23235-5292 (ZK14)

MDA416, YT DoD Education Activity, Pacific Procurement Division, Unit 35007, APO AP 96376 (ZK16)

MDA904 Maryland Procurement Office, ATTN: N363, 9800 Savage Road, Fort George G. Meade, MD 20755-6000 (ZD04)

MDA905, B4 Uniformed Services University of the Health Sciences, ATTN: Directorate of Contracting, 4301 Jones Bridge Road, Bethesda, MD 20814-4799 (ZD05)

MDA906, U5 TRICARE Management Activity, Contract Management Directorate, 16401 East Centretech Parkway, Aurora, CO 80011-9043 (ZD06)

MDA907 Purchasing and Contracting Office, Menwith Hill Station, APO AE 09210 (ZD07)

MDA908, 2X Virginia Contracting Activity, ATTN: DAP, PO Box 46563, Washington, DC 20050-6563 (ZD50)

MDA928 Armed Forces Radiobiology Research Institute, ATTN: Directorate of Contracting, USUHS, 4301 Jones Bridge Road, Bethesda, MD 20814-4799 (ZD28)

MDA946 Washington Headquarters Services, Real Estate and Facilities Directorate, ATTN: REFCO, The Pentagon—Butler Building, 1155 Defense Pentagon, Washington, DC 20301-1155 (ZD46)

MDA947, DP Pentagon Renovation Office, 100 Boundary Channel Drive, Arlington, VA 22202-3712 (ZD47)

MDA972, WS DARPA, Contracts Management Office, 3701 North Fairfax Drive, Arlington, VA 22203-1714 (ZD72)

Part 11—Defense Microelectronics Activity Address Number

DMEA90, 2P Defense Microelectronics Activity, ATTN: Contracting Office, 4234-54th Street, McClellan, CA 95652-2100 (ZD90)

Part 12—Missile Defense Agency Activity Address Numbers

HQ0006, SS Missile Defense Agency, Contracts Directorate, ATTN: CT, 7100 Defense Pentagon, Washington, DC 20301-7100 (ZD60)

H95001, VV Joint National Integration Center, Contract Management, 730 Irwin Avenue, Schriever Air Force Base, CO 80912-7300 (ZD61)

Part 13—Defense Commissary Agency Activity Address Numbers

DECA01, ZG Defense Commissary Agency, Resale Contracting Division, ATTN: DeCA/PSMC, 1300 E Avenue, Fort Lee, VA 23801-1800 (ZD81)

DECA02, ZT Defense Commissary Agency, Resale Contracting Division, ATTN: DeCA/PSMC, 1300 E Avenue, Fort Lee, VA 23801-1800 (ZD82)

DECA03, 0H Defense Commissary Agency, Eastern Region, CIBA Contracting Division, 5151 Bonney Road, Suite 201, Virginia Beach, VA 23462-4314 (ZD83)

DECA04, BE Defense Commissary Agency, Contracting Business Unit, Equip/Supply & Revenue, ATTN: DeCA/CICE, 1300 E Avenue, Fort Lee, VA 23801-1800 (ZD84)

DECA06, 0J Defense Commissary Agency, Midwest Region, ATTN: DeCA/MW/RDCC, 300 AFCOMS Way, Building 3030, San Antonio, TX 78226-1330 (ZD86)

DECA07, 0Z Defense Commissary Agency, Western/Pacific Region, ATTN: DeCA/WP/RDCC, 3401 Acacia Street, Suite 115, McClellan, CA 95652-1002 (ZD87)

DECA08, 0K Defense Commissary Agency, Contracting Business Unit, Services Division, ATTN: DeCA/CICS, 1300 E Avenue, Fort Lee, VA 23801-1800 (ZD88)

DECA09, 0U Defense Commissary Agency, European Region, ATTN: DeCA/EU/AM, Unit 3060, APO AE 09094-3060 (ZD89)

Part 14—[Amended]

11. Appendix G to Chapter 2 is amended in Part 14 by removing entries USZA24, USZA25, USZA90, USZA91, USZA93, and USZA98.

[FR Doc. 02-19084 Filed 7-29-02; 8:45 am]

BILLING CODE 5001-08-P